DEPARTMENT OF HOUSING AND URBAN DEVELOPMENT

[Docket No. FR-5074-N-04]

Notice of Regulatory Waiver Requests Granted for the Fourth Quarter of Calendar Year 2006

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2006, and ending on December 31, 2006.

FOR FURTHER INFORMATION CONTACT: For general information about this notice, contact Aaron Santa Anna, Assistant General Counsel for Regulations, Department of Housing and Urban Development, 451 Seventh Street, SW., Room 10276, Washington, DC 20410-0500, telephone (202) 708-3055 (this is not a toll-free number). Persons with hearing- or speech-impairments may access this number through TTY by calling the toll-free Federal Information Relay Service at (800) 877-8339.

For information concerning a particular waiver that was granted and for which public notice is provided in this document, contact the person whose name and address follow the description of the waiver granted in the accompanying list of waivers that have been granted in the fourth quarter of calendar year 2006.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2006, through December 31, 2006. For ease of reference, the waivers granted by HUD are listed by HUD program office (for example, the Office of Community Panning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2006) before the next report is published (the first quarter of calendar year 2007), HUD will include any additional waivers granted for the fourth quarter in the next report.

Accordingly, information about approved waiver requests pertaining to HUD regulations is provided in the Appendix that follows this notice.

Dated: March 23, 2007.
Robert M. Couch,
Acting General Counsel.

Appendix

Listing of Waivers of Regulatory Requirements Granted by Offices of the Department of Housing and Urban Development October 1, 2006, Through December 31, 2006

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.500(d)(1)(B), 42 U.S.C. 127481.

Project/Activity: The City of Baton Rouge-Parish of East Baton Rouge, Louisiana, requested a waiver to facilitate its recovery from the devastation caused by Hurricanes Katrina and Rita. The City-Parish is located within a declared disaster area pursuant to Title IV of the Robert T. Stafford Disaster Relief and Emergency Assistance Act. The City-Parish requested this waiver in addition to the waivers granted by HUD on September 14, 2005 (Hurricane Katrina) and October 4, 2005 (Hurricane Rita) for the designated disaster areas. The corresponding requirement in the Cranston-Gonzalez National Affordable Housing Act (the Act) must be suspended under the authority of section 290 of the Act.

Nature of Requirement: Section 92.500(d)(1)(B) of HUD's regulations (24 CFR 92.500(d)(1)(b) requires that a participating jurisdiction commit its annual allocation of HOME funds within 24 months after HUD notifies the participating jurisdiction that HUD has executed the jurisdiction's HOME Investment Partnership Agreement.

Granted By: Pamela H. Patenaude, Assistant Secretary for Community Planning and Development.

Date Granted: December 5, 2006.

Reason Waived: It was determined that the recovery of the City of Baton Rouge-Parish of East Baton Rouge from the devastation caused by Hurricane Katrina and Hurricane Rita would be facilitated by waiving the FY 2004 HOME commitment requirement. This waiver would ensure that needed HOME funds are not deobligated and that the City-Parish has sufficient time to complete the processing of its contract backlog.

Contact: Virginia Sardone, Office of Affordable Housing Programs, Office of Community Planning and Development, Department of Housing and Urban Development, 451 Seventh Street, SW., Room 7158, Washington, DC 20410-7000, telephone (202) 708-2470.

• Regulation: 24 CFR 92.500(d)(1)(C).

Project/Activity: The Jefferson Parish Consortium, Louisiana (Consortium), requested a waiver to facilitate its recovery from the devastation caused by Hurricanes Katrina and Rita. The Consortium is located within a declared disaster area pursuant to Title IV of the Robert T. Stafford Disaster Relief and Emergency Assistance Act. The Consortium requested this waiver in addition to the waivers granted by HUD on September 14, 2005 (Hurricane Katrina) and October 4, 2005 (Hurricane Rita) for the designated disaster areas.

Nature of Requirement: Section 92.500(d)(1)(C) of HUD's regulations (24 CFR 92.500(d)(1)(C)) requires that a participating jurisdiction expend its annual allocation of HOME funds within five years after HUD notifies the participating jurisdiction that HUD has executed the jurisdiction's HOME Investment Partnership Agreement.

Granted By: Pamela H. Patenaude, Assistant Secretary for Community Planning and Development.

Date Granted: December 5, 2006.

Reasons Waived: It was determined that recovery of the Consortium from the devastation caused by Hurricane Katrina and Hurricane Rita would be facilitated by granting a waiver of the FY 2001 HOME expenditure requirement. The waiver would ensure that needed HOME funds are not deobligated, and that the Consortium had sufficient time to rebuild its capacity and housing delivery systems. HUD did not grant a waiver of the FY 2002 HOME expenditure requirement at this time. Before considering additional waivers, HUD required assurances that the Consortium is acting expeditiously, and has completed a conditions inventory of its HOME-assisted properties.

Contact: Virginia Sardone, Office of Affordable Housing Programs, Office of Community Planning and Development, Department of Housing and Urban Development, 451 Seventh Street, SW., Room 7158, Washington, DC 20410-7000, telephone (202) 708-2470.

• Regulation: 24 CFR 576.21(b), 42 U.S.C. 11374(a)(2)(B).

Project/Activity: The city of Miami, Florida, requested a waiver of the Emergency Shelter Grants (ESG) program statutory provision at 42 U.S.C. 11374(a)(2)(B) and regulation at 24 CFR 576.21(b).

Nature of Requirement: The McKinney-Vento Homeless Assistance Act (42 U.S.C. 11374(a)(2)(B)) provides that no more than 30 percent of a recipient's grant may be used for essential services. This is requirement is found at 24 CFR 576.21(b). The Act further provides a statutory waiver (42 U.S.C. 11374(b)) of the 30 percent limitation, if the Secretary finds that a recipient “demonstrates that the other eligible activities under the program are already being carried out in the locality with other resources.” This waiver authority is found at 24 CFR 576.21(c). A variety of services addressing homeless needs are eligible essential services, including those concerned with employment, health, drug abuse and education.

Granted By: Pamela H. Patenaude, Assistant Secretary for Community Planning and Development.

Date Granted: December 5, 2006.

Reason Waived: The city of Miami met the statutory standard for waiving the 30 percent limitation on essential services. The city of Miami provided a letter that demonstrated that other categories of ESG activities would be carried out locally with other resources. Therefore, it was determined that the waiver was appropriate.

Contact: Mike Roanhouse, Office of Program Coordination and Analysis Division, Office of Community Planning and Development, Department of Housing and Urban Development, 451 Seventh Street, SW., Room 7262, Washington, DC 20410-7000, telephone (202) 708-1226.

II. Regulatory Waivers Granted by the Office of Housing-Federal Housing Administration (FHA)

For further information about the following regulatory waivers, please see the name of the contact person that immediately follows the description of the waiver granted.

• Regulation: 24 CFR 203.43f(c)(i) and 24 CFR 203.43f(d)(ii).

Project/Activity: State of Louisiana.

Nature of Requirement: HUD regulations at 24 CFR 203.43f(c)(i) require that manufactured homes which have not been permanently sited for more than one year prior to the date of application for mortgage insurance must have the finished grade beneath the manufactured home at or above the 100-year return frequency flood elevation. Section 203.43f(d)(ii) of the regulations provides that manufactured homes which have been permanently erected on a site for more than one year prior to the date of application for mortgage insurance must have the finished grade level beneath the manufactured home at or above the 100-year return frequency flood elevation.

Granted By: Brian D. Montgomery, Assistant Secretary for Housing-Federal Housing Commissioner.

Date Granted: October 12, 2006.

Reason Waived: The waiver allowed manufactured homes, located in the State of Louisiana, to be installed in accordance to the requirements for the National Flood Insurance Program (NIFP) found at 44 CFR 60.3. Thus, the waiver permitted the placement of FHA mortgage insurance on manufactured homes in the State of Louisiana, in flood designated areas, with the lowest floor at or above the 100-year frequency, and otherwise conforming with HUD requirements for Title II financing of manufactured homes.

Contact: Joanne Kuczma, Director (Acting), Home Mortgage Insurance Division, Office of Single Family Housing, Office of Housing Department of Housing and Urban Development, 451 Seventh Street, SW., Rm. 9266, Washington, DC 20410-8000, telephone (202) 708-2121.

• Regulation: 24 CFR 219.220(b).

Project/Activity: Asbury Park, New Jersey (Asbury Towers, FHA Project Number 031-016NI). The Philadelphia Multifamily Hub requested waiver of this regulation to permit an extension of maturity date for the Flexible Subsidy Loan.

Nature of Requirement: HUD's regulations at 24 CFR 219.220(b) governs the repayment of assistance provided under the Flexible Subsidy Program for Troubled Projects, and states in part: “Assistance that has been paid to a project owner under this subpart must be repaid at the earlier of the expiration of the term of the mortgage, termination of mortgage insurance, prepayment of the mortgage, or a sale of the project.” Either action would typically terminate FHA involvement with the property and the Flexible Subsidy Loan would be repaid at that time.

Granted By: Brian D. Montgomery, Assistant Secretary for Housing-Federal Housing Commissioner.

Date Granted: December 15, 2006.

Reason Waived: The waiver was granted to allow the project to continue to be maintained as a Section 236 housing resource. Pursuant to the waiver, the requirement for repayment of the Flexible Subsidy Loan at the prepayment of the non-insured Section 236 mortgage was waived to allow the Flexible Subsidy Loan, plus accrued interest, to be extended until the expiration of the decoupling Use Agreement. Payments would accrue until the expiration date of the Decoupling Use Agreement, November 1, 2025. All surplus cash realized at the end of any fiscal year must be applied to the Flexible Subsidy Loan debt.

Contact: Beverly J. Miller, Director, Office of Asset Management, Office of Housing, Department of Housing and Urban Development, 451 Seventh Street, SW., Room 6160, Washington, DC 20410-8000, telephone (202) 708-3730.

• Regulation: 24 CFR 236.725.

Project/Activity: New Brunswick, New Jersey (Halls Corner Apartments—FHA Project Number: 031-078NI). The Philadelphia Multifamily Hub requested waiver of this regulation to permit the continuation of Rental Assistance Payments after the payoff of the original non-insured Section 236 mortgage under a Section 236(e)(2) Decoupling transaction.

Nature of Requirement: The regulations in 24 CFR 236.725 require that “the rental assistance contract shall be limited to the term of the mortgage or 40 years from the date of the first payment made under the contract, whichever is the lesser.”

Granted By: Brian D. Montgomery, Assistant Secretary for Housing-Federal Housing Commissioner.

Date Granted: December 14, 2006.

Reason Waived: The waiver was granted to allow Halls Corner Apartments to be maintained as an affordable housing resource to the maturity date of the non-insured Section 236 mortgage plus an additional 5 years. The project is a 154-unit high-rise complex occupied by senior residents, which provides 65 rental assistance payments assisted units. The project is being processed under the Section 236 Decoupling program wherein the project may refinance its Section 236 non-insured mortgage and continue to receive the Section 236 Interest Reduction Payment (IRP) subsidy predicated on the project entering into a recorded Use Agreement that will restrict it to be operated under the Section 236 program requirements until the maturity date of the original non-insured Section 236 mortgage, plus an additional 5 years. By regulation, the Rental Assistance Payment (RAP) subsidy would generally terminate upon the prepayment of the non-insured Section 236 mortgage. The waiver was predicated on the fact that the Decoupling proposal did not request an increase in the Section 236 units, hence the RAP subsidy is not being increased based on this transaction.

Contact: Beverly J. Miller, Director, Office of Asset Management, Office of Housing, Department of Housing and Urban Development, 451 Seventh Street, SW., Room 6160, Washington, DC 20410-8000, telephone (202) 708-3730.

• Regulation: 24 CFR 290.30(a).

Project/Activity: Bronx, New York (Parkview Apartments—FHA Project Nos. 012-57029V and 57029W). The New York Multifamily Hub requested prepayment approval for two HUD-held mortgages and assignment of the mortgages to a new mortgagee.

Nature of Requirement: The regulations in 24 CFR Part 290, subpart B require that HUD-held multifamily mortgages be sold on a competitive basis, except for certain “negotiated” sales to state or local governments. Section 290.30(a) of those regulations (24 CFR 290.30(a)) state that “[e]xcept as otherwise provided in Section 290.31(a)(2), HUD will sell HUD-held multifamily mortgages on a competitive basis.” Section 290.31(a)(2) permits “negotiated” sales to state or local governments for mortgage loans that are current and secured by subsidized projects, provided such loans are sold with FHA insurance.

Granted By: Brian D. Montgomery, Assistant Secretary for Housing-Federal Housing Commissioner.

Date Granted: December 14, 2006.

Reason Waived: The waiver was granted to allow a non-competitive sale to New York Community Bank. The owner, in lieu of paying off the mortgages directly, requested that the HUD loans secured by the project be assigned to New York Community Bank for mortgage tax savings purposes. New York Community Bank agreed to these assignments and to pay the full amount of the HUD loans.

Contact: Beverly J. Miller, Director, Office of Asset Management, Office of Housing, Department of Housing and Urban Development, 451 Seventh Street, SW., Room 6160, Washington, DC 20410-8000; telephone (202) 708-3730.

• Regulation: 24 CFR 891.100(d).

Project/Activity: Mace Apartments, Jamestown, TN, Project Number: 087-HD048/TN37-Q051-001.

Nature of Requirement: Section 891.100(d) prohibits amendment of the amount of the approved capital advance funds prior to initial closing.

Granted by: Brian D. Montgomery, Assistant Secretary for Housing-Federal Housing Commissioner.

Date Granted: October 2, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Luther Ridge, Oregon, OH, Project Number: 042-EE185/OH12-S041-021.

Nature of Requirement: Section 891.100(d) prohibits amendment of the amount of the approved capital advance funds prior to initial closing.

Granted by: Brian D. Montgomery, Assistant Secretary for Housing-Federal Housing Commissioner.

Date Granted: October 4, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Heritage Place III, Coeur d'Alene, ID, Project Number: 124-EE022/ID16-S041-001.

Nature of Requirement: Section 891.100(d) prohibits amendment of the amount of the approved capital advance funds prior to initial closing.

Granted by: Brian D. Montgomery, Assistant Secretary for Housing-Federal Housing Commissioner.

Date Granted: October 27, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Mont Marie Senior Residence, Holyoke, MA, Project Number: 023-EE181/MA06-S041-006.

Nature of Requirement: Section 891.100(d) prohibits amendment of the amount of the approved capital advance funds prior to initial closing.

Granted by: Brian D. Montgomery, Assistant Secretary for Housing-Federal Housing Commissioner.

Date Granted: October 30, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Third Ward VOA Elderly Housing, St. Louis, MO, Project Number: 085-EE081/MO36-S041-004.

Nature of Requirement: Section 891.100(d) prohibits amendment of the amount of the approved capital advance funds prior to initial closing.

Granted by: Brian D. Montgomery, Assistant Secretary for Housing-Federal Housing Commissioner.

Date Granted: December 1, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Abilities at English Park, Inc., Melbourne, FL, Project Number: 067-HD095/FL29-Q041-002.

Nature of Requirement: Section 891.100(d) prohibits amendment of the amount of the approved capital advance funds prior to initial closing.

Granted by: Brian D. Montgomery, Assistant Secretary for Housing-Federal Housing Commissioner.

Date Granted: December 22, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Fifth and Stone Senior Housing, Spokane, WA, Project Number: 171-EE022/WA19-S051-003.

Nature of Requirement: Section 891.100(d) prohibits amendment of the amount of the approved capital advance funds prior to initial closing.

Granted by: Brian D. Montgomery, Assistant Secretary for Housing-Federal Housing Commissioner.

Date Granted: December 22, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: South Hadley Supportive Housing, South Hadley, MA, Project Number: 023-EE178/MA06-S041-003.

Nature of Requirement: Section 891.100(d) prohibits amendment of the amount of the approved capital advance funds prior to initial closing.

Granted by: Brian D. Montgomery, Assistant Secretary for Housing-Federal Housing Commissioner.

Date Granted: December 26, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: NCR Tucson, Tucson, AZ, Project Number:123-EE085/AZ20-S021-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2006.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: Spring Ridge, Rockford, IL, Project Number:071-EE195/IL06-S041-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 4, 2006.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Laurel Place West Hollywood, Inc., West Hollywood, CA, Project Number: 122-EE187/CA16-S031-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 12, 2006.

Reason Waived: The sponsor/owner needed additional time to resolve legal issues and to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: The Seasons of Hartford, Hartford, CT, Project Number: 017-EE071/CT26-S021-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 12, 2006.

Reason Waived: The sponsor/owner needed additional time to resolve environmental issues and to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Gonzaga Village, West Allis, WI, Project Number: 075-EE127/WI39-S031-007.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 16, 2006.

Reason Waived: The sponsor/owner needed additional time to resolve issues with the local municipality and to obtain a building permit.

Contact: Willie Spearmon, Director, Office of Housing Assistance and Grant Administration, Office of Housing, Department of Housing and Urban Development, 451 Seventh Street, SW., Washington, Room 6134, DC 20410-8000, telephone (202) 708-3000.

• Regulation: 24 CFR 891.165.

Project/Activity: Gulfport Manor, Gulfport, MS, Project Number: 065-EE031/MS26-S001-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 17, 2006.

Reason Waived: The sponsor/owner needed additional time to resolve parking issues raised by the city of Gulfport Zoning board.

Contact: Willie Spearmon, Director, Office of Housing Assistance and Grant Administration, Office of Housing, Department of Housing and Urban Development, 451 Seventh Street, SW., Washington, Room 6134, DC 20410-8000, telephone (202) 708-3000.

• Regulation: 24 CFR 891.165.

Project/Activity: Whalley Avenue Housing II, New Haven, CT, Project Number: 017-HD031/CT26-Q011-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 19, 2006.

Reason Waived: The sponsor/owner needed additional time to secure secondary financing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Caring Residential Services II, Pleasantville, NJ, Project Number: 035-EE046/NJ39-S031-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 24, 2006.

Reason Waived: The sponsor/owner needed additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: The Presbyterian Homes at Dover, Dover Township, NJ, Project Number: 035-EE050/NJ39-S041-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 24, 2006.

Reason Waived: The sponsor/owner needed additional time to obtain a building permit.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Haven House at St. John of God, North Cape May, NJ, Project Number: 035-EE049/NJ39-S041-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 25, 2006.

Reason Waived: The sponsor/owner needed additional time to obtain soil conservation, and water line extension permits.

Contact: Willie Spearmon, Director, Office of Housing Assistance and Grant Administration, Department of Housing and Urban Development, 451 Seventh Street, SW., Room 6134, Washington, DC 20410-8000, telephone (202) 708-3000.

• Regulation: 24 CFR 891.165.

Project/Activity: Roncalli Apartments, Augusta, ME, Project Number: 024-EE085/ME35-S041-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 26, 2006.

Reason Waived: The sponsor/owner needed additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Spruce Manor, Jacksonville, IL, Project Number: 072-HD132/IL06-Q021-019.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 27, 2006.

Reason Waived: The sponsor/owner needed additional time to prepare the firm commitment.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Senior Residence at Kapolei, Kapolei, HI, Project Number: 140-EE024/HI10-S011-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 27, 2006.

Reason Waived: The sponsor/owner needed additional time to obtain the building permit, subdivide the site, conduct an appraisal and review financing documents.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Loudon VOANNE Senior Housing, Loudon, NH, Project Number: 024-EE076/NH36-S041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 27, 2006.

Reason Waived: The sponsor/owner needed additional time to revise the firm commitment and to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Hale Mahaolu Ehiku, Kihei, Maui, HI, Project Number: 140-EE028/HI10-S021-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 27, 2006.

Reason Waived: The sponsor/owner needed additional time to find another architect and obtain building permits.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Soundview Senior Residence, Bronx, NY, Project Number: 012-EE318/NY36-S011-012.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 30, 2006.

Reason Waived: The sponsor/owner needed additional time to obtain insurance certificates and building permits.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Marshall Road, Wellesley, MA, Project Number: 023-HD181/MA06-Q011-009.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 30, 2006.

Reason Waived: The sponsor/owner needed additional time to secure secondary financing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Renaissance Court, Wilsonville, OR, Project Number: 126-HD039/OR16-Q041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 1, 2006.

Reason Waived: The sponsor/owner needed additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Clam Bayou Apartments, St. Petersburg, FL, Project Number: 067-HD094/FL29-Q041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 1, 2006.

Reason Waived: The sponsor/owner needed additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Balsam Terrace, Jacksonville, IL, Project Number: 072-EE147/IL06-S021-011.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 1, 2006.

Reason Waived: The sponsor/owner needed additional time to prepare the firm commitment.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Columbia Supportive Living, Knowlton, NJ, Project Number: 031-HD131/NJ39-Q021-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 1, 2006.

Reason Waived: The sponsor/owner needed additional time to obtain the building permits.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Mt. Olive Manor II, Flanders, NJ, Project Number: 031-EE064/NJ39-S041-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2006.

Reason Waived: The sponsor/owner needed additional time to secure secondary financing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: NCR of Sterling Heights II, Detroit, MI, Project Number: 044-EE092/MI28-S041-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2006.

Reason Waived: The sponsor/owner needed additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Alvin Malcolm Senior Residence, Bronx, NY, Project Number: 012-EE331/NY36-S041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2006.

Reason Waived: The sponsor/owner needed additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Convent Hill Apartments, Milwaukee, WI, Project Number: 075-EE133/WI39-S041-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2006.

Reason Waived: The sponsor/owner needed additional time to prepare for initial closing for this mixed finance project.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Sky Forest Acres, South Lake Tahoe, CA, Project Number: 136-HD014/CA30-Q011-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2006.

Reason Waived: The sponsor/owner needed additional time to secure a new contractor.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Tupqich Elder Apartments, Kotzebue, Alaska, Project Number: 176-EE038/AK19-S041-005.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 6, 2006.

Reason Waived: The sponsor/owner needed additional time for new board members to obtain previous participation clearance.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Crowley House, Lyons, NY, Project Number: 014-HD126/NY06-Q041-006.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 8, 2006.

Reason Waived: The sponsor/owner needed additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Forest Hills Senior Apartments, Forest Hills, PA, Project Number: 033-EE122/PA28-S041-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 8, 2006.

Reason Waived: The sponsor/owner needed additional time to secure secondary financing and to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Aliff Place Apartments, Fort Gay, WV, Project Number: 045-HD040/WV15-Q041-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 8, 2006.

Reason Waived: The sponsor/owner needed additional time to redesign the project.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: TBD, Kennebunk, ME, Project Number: 024-HD045/ME36-Q041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 8, 2006.

Reason Waived: The sponsor/owner needed additional time to redesign the project.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Heritage Place III, Coeur d'Alene, ID, Project Number: 124-EE022/ID16-S041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 15, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Brush Hill Residences, Yarmouth, MA, Project Number: 023-HD182/MA06-Q011-010.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 15, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Cornerstone Homes, New Orleans, LA, Project Number: 064-EE167/LA48-S041-005.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 15, 2006.

Reason Waived: The sponsor/owner needed additional time to approve a new site, prepare the firm commitment and to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Abilities at English Park, Inc., Melbourne, FL, Project Number: 067-HD095/FL29-Q041-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 15, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Jennings Senior Housing, San Rosa, CA, Project Number: 121-EE178/CA39-S041-009.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 16, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: St. Dominic's Apartments, Fall River, MA, Project Number: 023-EE167/MA06-S031-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 30, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Villa Regina, West Palm Beach, FL, Project Number: 066-EE086/FL29-S011-010.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 4, 2006.

Reason Waived: The sponsor/owner needed additional time to revise the firm commitment and to prepare for initial closing.

Contact: Willie Spearmon, Director, Office of Housing Assistance and Grant Administration, Office of Housing, Department of Housing and Urban Development, 451 Seventh Street, SW, Washington, DC 20410-8000, telephone (202) 708-3000.

• Regulation: 24 CFR 891.165.

Project/Activity: Rosati House Apartments, St. Louis, MO, Project Number: 085-HD041/MO36-Q041-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 5, 2006.

Reason Waived: The sponsor/owner needed additional time to secure secondary financing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Kent Gardens Senior Community, San Lorenzo, CA, Project Number: 121-EE172/CA39-S041-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 6, 2006.

Reason Waived: The sponsor/owner needed additional time to submit the firm commitment.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Quest Manor I, Canton, OH, Project Number: 042-HD118/OH12-Q041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 11, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Applewood Place II, Mansfield, OH, Project Number: 042-EE183/OH12-S041-019.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 11, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Luther Ridge, Oregon, OH, Project Number: 042-EE185/OH12-S041-021.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 11, 2006.

Reason Waived: The sponsor/owner needed additional time to resolve a road issue and to perform additional sewer work.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: VOA Sandusky, Sandusky, OH, Project Number: 042-HD110/OH12-Q021-008.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 11, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Caring Residential Services II, Pleasantville, NJ, Project Number: 035-EE046/NJ39-S031-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 11, 2006.

Reason Waived: The sponsor/owner needed additional time to prepare for initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Howland Housing, Howland Twp, OH, Project Number: 042-EE161/OH12-S031-014.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 22, 2006.

Reason Waived: The sponsor/owner needed additional time to submit the firm commitment.

Contact: Willie Spearmon, Director, Office of Housing Assistance and Grant Administration, Office of Housing, Department of Housing and Urban Development, 451 Seventh Street, SW., Room 6134, Washington, DC 20410-8000, telephone (202) 708-3000.

• Regulation: 24 CFR 891.410(c).

Project/Activity: Pittsburgh, New Hampshire (Echo Valley Village—FHA Project Number 024-EE040). The Boston Multifamily Hub requested waiver of the very low-income and age requirements for five units at this property due to severe vacancy problems.

Nature of Requirement: HUD regulations at 24 CFR part 891 require admission of families to projects for the elderly or handicapped that receive reservations under Section 202 of the Housing Act of 1959 and housing assistance under Section 8 of the U.S. Housing Act of 1937. Section 891.410(c) limits occupancy to very low-income elderly persons (i.e., households composed of one or more persons at least one of whom is 62 years of age at the time of initial occupancy).

Granted By: Brian D. Montgomery, Assistant Secretary for Housing-Federal Housing Commissioner.

Date Granted: October 4, 2006.

Reason Waived: The waiver was granted in order to allow the owner flexibility in renting up vacant units at the project. The property was only able to achieve 100 percent occupancy during September 2004 through December 2004. The property received applications, but the applicants did not meet the age and/or income requirements. The property manager continued to work closely with community organizations, as well as advertise through various media outlets to attract very low-income and age eligible applicants. This waiver only permits admission of near elderly and/or lower-income applicants when there are no very low-income or age eligible applicants to fill vacancies. Without this waiver the current occupancy level would not support the operations of the project. This waiver is good for one year and applies to this property only.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Rochester, New York (Brown's Memorial Manor—FHA Project Number 014-EE200). The Buffalo Multifamily Hub has requested a waiver reduction of the age limit from 62 to 55 years of age for the subject property because of current vacancy problems.

Nature of Requirement: HUD regulations at 24 CFR part 891 require admission of families to projects for the elderly or handicapped that receive reservations under Section 202 of the Housing Act of 1959 and housing assistance under Section 8 of the U.S. Housing Act of 1937. Section 891.410(c) limits occupancy to very low-income elderly persons (i.e., households composed of one or more persons at least one of whom is 62 years of age at the time of initial occupancy).

Granted By: Brian D. Montgomery, Assistant Secretary for Housing-Federal Housing Commissioner.

Date Granted: October 31, 2006.

Reason Waived: The waiver was granted to allow the owner/managing agent flexibility in renting up vacant units. At the time of the waiver request, the project had 13 occupied and 9 vacant units with no waiting list. An age waiver allowed the project to operate successfully and achieve full occupancy by permitting admission of applicants who meet the definition of very low-income and are 55 years of age and older when there are no very low-income elderly applicants available. This waiver is good for one year and applies to this project only.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Waukesha, Wisconsin (Sunset Heights—FHA Project Number 075-EE036). The Milwaukee Multifamily Hub requested a one-year waiver of the age and income requirements for this property to help alleviate the current occupancy problem.

Nature of Requirement: HUD regulations at 24 CFR part 891 require admission of families to projects for the elderly or handicapped that receive reservations under Section 202 of the Housing Act of 1959 and housing assistance under Section 8 of the U.S. Housing Act of 1937. Section 891.410(c) limits occupancy to very low-income elderly persons (i.e., households composed of one or more persons at least one of whom is 62 years of age at the time of initial occupancy.)

Granted By: Brian D. Montgomery, Assistant Secretary for Housing-Federal Housing Commissioner.

Date Granted: October 31, 2006.

Reason Waived: The waiver was granted to permit admission of lower-income elderly applicants (income between 51 and 80 percent of median), when there are no very low-income elderly applicants to fill vacant units. The property's management agent continued to aggressively advertise and market the property. The waiver allowed the property to operate successfully and attain full occupancy. This waiver is good for one year and applies to this property only.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Leachville, Arkansas (Mature Living of Leachville, FHA Project Number 082-EE013). The Fort Worth Multifamily Hub requested an age restriction waiver for this Section 202 Supportive Housing for the Elderly project because of current vacancy problems.

Nature of Requirement: HUD regulations at 24 CFR part 891 require admission of families to projects for the elderly or handicapped that receive reservations under Section 202 of the Housing Act of 1959 and housing assistance under Section 8 of the U.S. Housing Act of 1937. Section 891.410(c) limits occupancy to very low-income elderly persons (i.e., households composed of one or more persons at least one of whom is 62 years of age at the time of initial occupancy).

Granted By: Brian D. Montgomery, Assistant Secretary for Housing-Federal Housing Commissioner

Date Granted: November 1, 2006.

Reason Waived: The waiver was granted based on the current occupancy problems. At the time of the waiver request, the property experienced a 40 percent vacancy factor over the past four months and an overall 38 percent vacancy factor over the past six months and had 6 vacant units. The management agent exercised acceptable marketing efforts but due to insufficient market demand, the project experienced difficulty. Waiver of the regulations allowed the owner to admit applicants who at initial occupancy failed to meet the statutory age limit of 62 years of age or older and stabilize the project's current financial status and prevent foreclosure. The waiver is good for one year and applies to this property only.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Somerset, Kentucky (Westbrooke Apartments—FHA Project Number 083-EE017). The Atlanta Multifamily Hub requested waiver of the very low-income limit and reduction of the age limit for this property to assist in renting up vacant units.

Nature of Requirement: HUD regulations at 24 CFR part 891 require admission of families to projects for the elderly or handicapped that receive reservations under Section 202 of the Housing Act of 1959 and housing assistance under Section 8 of the U.S. Housing Act of 1937. Section 891.410(c) limits occupancy to very low-income elderly persons (i.e., households composed of one or more persons at least one of whom is 62 years of age at the time of initial occupancy).

Granted By: Brian D. Montgomery, Assistant Secretary for Housing-Federal Housing Commissioner.

Date Granted: November 1, 2006.

Reason Waived: The waiver was granted based on the management agent's struggles to fill vacant units. The vacancy was attributable to an insufficient number of eligible applicants within Pulaski County. Also, several residents relocated to a newly constructed 24-unit tax credit property, which offers more amenities making it difficult to attract very low-income elderly persons. Waiver of this regulation allowed flexibility to offer units to individuals who meet the definition of lower income, near elderly and thus, the owner would be able to increase occupancy levels and successfully achieve full occupancy at the property. This waiver is good for one year and applies to this property only.

Contact: Beverly J. Miller, Director, Office of Asset Management, Office of Housing, Department of Housing and Urban Development, 451 Seventh Street, SW., Room 6160, Washington, DC 20410-8000; telephone (202) 708-3730.

• Regulation: 24 CFR 891.410(c).

Project/Activity: Parker, Pennsylvania (Parker Heights Apartments—FHA Project Number 033-EE109). The Pittsburgh Multifamily Program Center requested waiver of the age and income requirements for this property to alleviate the current occupancy problem.

Nature of Requirement: HUD regulations at 24 CFR part 891 require admission of families to projects for the elderly or handicapped that receive reservations under Section 202 of the Housing Act of 1959 and housing assistance under Section 8 of the U.S. Housing Act of 1937. Section 891.410(c) limits occupancy to very low-income elderly persons (i.e., households composed of one or more persons at least one of whom is 62 years of age at the time of initial occupancy.)

Granted By: Brian D. Montgomery, Assistant Secretary for Housing-Federal Housing Commissioner.

Date Granted: December 15, 2006.

Reason Waived: The waiver was granted because the project experienced difficulty in leasing units to the elderly. Providing for waiver of the age and very-low income requirements allowed the owner additional flexibility in attempting to rent vacant units and perhaps start a waiting list. The owner/management of this property was allowed to rent units to those persons who are at low-income limits between 51 and 80 percent of median income, and to those persons who are near-elderly, between the ages of 55 and 62. This waiver is good for one year and applies to this property only.

Contact: Beverly J. Miller, Director, Office of Asset Management, Office of Housing, Department of Housing and Urban Development, 451 Seventh Street, SW., Room 6160, Washington, DC 20410-8000, telephone (202) 708-3730.

• Regulation: 24 CFR 891.830(b).

Project/Activity: Kent Gardens Senior Community, San Lorenzo, CA, Project Number: 121-EE172/CA39-S041-003.

Nature of Requirement: Section 891.830(b) requires that capital advance funds be drawn down only in an approved ratio to other funds in accordance with a drawdown schedule approved by HUD.

Granted by: Brian D. Montgomery, Assistant Secretary for Housing-Federal Housing Commissioner.

Date Granted: December 14, 2006.

Reason Waived: In order to not delay the construction of this mixed finance project, the waiver permitted the capital advance funds to be drawn down using a different mechanism, as approved by HUD, than a pro rata basis. However, the capital advance funds were not permitted to be drawn down any faster than a pro rata disbursement basis would have permitted.

Contact: Willie Spearmon, Director, Office of Housing Assistance and Grant Administration, Office of Housing, Department of Housing and Urban Development, 451 Seventh Street, SW., Room 6134, Washington, DC 20410-8000, telephone (202) 708-3000.

• Regulation: 24 CFR 891.830(c)(4).

Project/Activity: Kent Gardens Senior Community, San Lorenzo, CA, Project Number: 121-EE172/CA39-S041-003.

Nature of Requirement: Section 891.830(c)(4) prohibits the capital advance funds from paying off bridge or construction financing, or repaying or collateralizing bonds.

Granted by: Brian D. Montgomery, Assistant Secretary for Housing-Federal Housing Commissioner.

Date Granted: December 14, 2006.

Reason Waived: Since this is a mixed finance project, the waiver permitted capital advance funds to be used to pay off that portion of a bridge or construction financing that strictly relates to capital advance eligible costs. Such costs are to be documented in the owner's audited cost certification and approved by the Program Center as capital advance eligible.

Contact: Willie Spearmon, Director, Office of Housing Assistance and Grant Administration, Office of Housing, Department of Housing and Urban Development, 451 Seventh Street, SW., Room 6134, Washington, DC 20410-8000, telephone (202) 708-3000.

III. Regulatory Waivers Granted by the Office of Public and Indian Housing

For further information about the following regulatory waivers, please see the name of the contact person that immediately follows the description of the waiver granted.

• Regulation: 24 CFR 902.20, 902.30, 902.40, 902.50 and 24 CFR part 985.

Project/Activity: Dallas Housing Authority (TX009), Dallas, TX.

Nature of Requirement: The objective of 24 CFR 902.20 is to determine whether a housing authority (HA) is meeting the standard of decent, safe, sanitary, and in good repair. HUD's Real Estate Assessment Center (REAC) provides for an independent physical inspection of a HA's property of properties that includes a statistically valid sample of the units. Additionally, the regulation establishes certain reporting compliance dates; namely, the Audited financial statements are required to be submitted no later than nine months after the HA's Fiscal Year End (FYE), in accordance with the Single Audit Act and OMB Circular A-133 (24 CFR 902.30), and the Management operations certifications are required to be submitted within two months after the HA's FYE (24 CFR 902.40). The Resident Service and Satisfaction Indicator is performed through the use of a survey. The HA is responsible for completing implementation plan activities and developing a follow-up plan (24 CFR 902.50).

The objective of 24 CFR part 985 is to assist eligible families afford decent rental units at the correct subsidy cost, and to measure HA performance in seven key Section 8 performance indicators under the Section 8 Management Assessment Program (SEMAP) through annual certification.

Granted By: Orlando J. Cabrera, Assistant Secretary for Public and Indian Housing.

Date Granted: October 27, 2006.

Reason Waived: The Dallas Housing Authority assisted thousands of displaced families that were evacuated from the Gulf Coast region due to Hurricane Katrina. The HA rapidly mobilized its staff and provided housing referral services at two convention centers, coordinated resources of neighboring public housing agencies and provided a central processing facility at its administrative offices for volunteer organizations that provided temporary shelter, food and transportations for evacuees. The HA also matched vacant public housing units with families in need of housing. Consequently, the unexpected hurricane disaster diverted a significant portion of staff efforts from complying with the Public Housing Assessment System (PHAS) requirements. The HA requested and received approval waiving all PHAS indicators and overall PHAS score under 24 CFR part 902, and all the SEMAP indicators under 24 CFR part 985, for fiscal year ending December 31, 2006.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.30.

Project/Activity: Dallas Housing Authority (TX009), Dallas, TX.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: November 28, 2006.

Reason Waived: The HA requested a waiver for the removal of the Late Presumptive Failure (LPF) score of zero for the audited Financial Assessment Subsystem (FASS) indicator whose submission due date of September 30, 2006, was extended to October 9, 2006 for FYE December 30, 2005. The HA's key financial staff was unable to properly prepare for the fiscal year audit due to extensive and unplanned work with the Federal Emergency Management Agency (FEMA). The HA was involved with FEMA in providing housing in the Dallas area in the aftermath of Hurricanes Katrina and Rita. The financial staff was diverted from their regular responsibilities to set up financial systems to properly account for FEMA activities. The waiver granted an extension of the FASS requirements for FYE December 31, 2005, the removal of the LPF score of zero under the FASS indicator, and the submission of the audited financial data and generation of a new PHAS score.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.30.

Project/Activity: Ingram County Housing Commission (MI168), Okemos, MI.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: November 29, 2006.

Reason Waived: The HA requested a waiver of the Late Presumptive Failure (LPF) score of zero of the audited financial score under the Financial Assessment Subsystem (FASS) indicator for FYE September 30, 2005. Due to its designation as a Small Public Housing Agency, the HA will not receive a Public Housing Assessment System (PHAS) score. The HA, however, was required to submit its audited financial submission due June 30, 2006. The HA originally submitted the audited data on June 8, 2006 and the Real Estate Assessment Center (REAC) rejected the submission on July 3, 2006 and established a new resubmission date of July 18, 2006. The HA's submission was not submitted timely, because the HA's auditor was on leave. The HA's Executive Director did everything in his capacity to remind and follow-up with the auditor on the resubmission of the rejected audited financial data. The reasons the resubmission was not timely completed were due to circumstances beyond the HA's control. The waiver allowed the HA to resubmit its audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.30.

Project/Activity: Macoupin County Housing Authority (IL047), Carlinville, IL.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: December 14, 2006.

Reason Waived: The HA requested reconsideration of the decision denying the HA's initial appeal because the HA did not provide evidence that an objectively and material error occurred that resulted in the HA receiving a designation of Substandard Financial Performer for fiscal year ending (FYE) September 30, 2005 under the Financial Assessment Subsystem (FASS) indicator. The HA contended that its FASS score is not a true reflection of the HA's financial status because the HA did not receive permanent financing on construction loan for a 46-unit independent low-income living facility that was classified as current debt until the new fiscal year. The waiver granted the removal of the Substandard Financial Public Housing Assessment System (PHAS) designation and designation of the HA as a Standard Performer

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.30.

Project/Activity: Indianapolis Housing Authority (IN017), Indianapolis, IN.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: December 4, 2006.

Reason Waived: The HA requested a waiver for the removal of the Late Presumptive Failure (LPF) score of zero for the audited Financial Assessment Subsystem (FASS) indicator whose submission due date of September 30, 2006, was extended to October 9, 2006 for FYE December 30, 2005. On October 6, 2006, the HA's auditor informed the HA that the financial audited submission was in the second step of a three step process but due to HA/auditor miscommunication, the third step in the electronic submission process was not performed. The waiver granted the HA the removal of the LPF score of zero under the FASS indicator, and the submission of the audited financial data and generation of a new Public Housing Assessment System (PHAS) score.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 941.606(n)(l)(ii)(B).

Project/Activity: Charlotte Housing Authority's Waiver for 940 Brevard Senior Apartments for the Piedmont Courts HOPE VI Project: NC19URD003I103.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: October 6, 2006.

Reason Waived: This waiver was requested by the Charlotte Housing Authority (CHA), so Crosland Contractors may serve as the general contractor for construction of 940 Brevard Senior Apartments, an off-site component of the Piedmont Courts HOPE VI project. CHA submitted an independent cost estimate prepared by Construction Cost, Inc. for 940 Brevard Senior Apartments, which totaled $10,330,172. CHA also submitted the construction contract between Crosland and Crosland Contractors, which totaled $8,947,378 for construction of 940 Brevard Senior Apartments. As Crosland Contractor's cost was below that of the independent cost estimates, HUD's condition was satisfied and the waiver was granted.

Contact: Dominique Blom, Deputy Assistant Secretary for the Office of Public Housing Investments, 451 Seventh Street, SW., Room 4130, Washington, DC 20140-5000, telephone (202) 401-8812.

• Regulation: 24 CFR 941.606(n)(l)(ii)(B).

Project/Activity: Housing Authority of DeKalb County's Waiver for Johnson Ferry East, Phase 1 Mixed Finance Project.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: October 6, 2006.

Reason Waived: This waiver was requested by the Housing Authority of DeKalb County (HADC) for the redevelopment of the Johnson Ferry East public housing site, so Norsouth Construction Corporation may serve as the general contractor. HADC procured Ashford Developers, LLC as the master developer for the Johnson Ferry East site through a competitive Request for Qualifications (“RFQ”). Ashford Developers, of which the Norsouth Corporation is the majority owner, sought to utilize Norsouth Construction Corporation (“Norsouth Construction”), a related entity of Norsouth Corporation, to serve as general contractor for Phase 1. Ashford Developers identified Norsouth Construction as its intended general contractor in its proposal that was submitted in response to the RFQ issued by HADC. HADC submitted an independent third-party cost estimate from Costing Services Group (“CSG”), which totaled $14,407,688, while Norsouth Construction's totaled $11,287,041. As Norsouth Construction's cost was below that of the independent cost estimates, HUD's condition was satisfied and the waiver was granted.

Contact: Dominique Blom, Deputy Assistant Secretary for the Office of Public Housing Investments, Office of Public and Indian Housing, 451 Seventh Street, SW., Room 4130 Washington, DC 20410-5000, telephone (202) 401-8812.

• Regulation: 24 CFR 941.606(n)(l)(ii)(B).

Project/Activity: Daytona Beach Housing Authority's Waiver for The Villages at Halifax Bethune Village/Halifax Park HOPE VI Project: FL29URD007I102

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: October 6, 2006.

Reason Waived: This waiver was requested by the Daytona Beach Housing Authority (DBHA), so Picerne Construction Corporation may serve as the general contractor for The Villages at Halifax, an off-site component of the Bethune Village/Halifax Park HOPE VI project. Picerne Affordable Development, LLC (Picerne) is the master developer for the Bethune Village/Halifax Park HOPE VI site. Picerne Construction Corporation, an affiliate of Picerne, sought to serve as the general contractor for the construction of the project. DBHA submitted an independent cost estimate prepared by Carlsson, Inc. for the Villages at Halifax, which estimated to $11,994,338. The housing authority also submitted the executed construction contract between Picerne Construction Corporation and the Villages at Halifax Housing, Ltd., LLLP, the ownership entity for the Villages at Halifax, which included Picerne, totaled $7,178,880 for the construction of The Villages at Halifax. As Picerne Construction Corporation's cost was below that of the independent cost estimates. HUD's condition was satisfied and the waiver was granted.

Contact: Dominique Blom, Deputy Assistant Secretary for the Office of Public Housing Investments, Office of Public and Indian Housing, 451 Seventh Street, SW., Room 4130, Washington, DC 20410-5000, telephone (202) 401-8812.

• Regulation: 24 CFR 941.606(n)(l)(ii)(B).

Project/Activity: Greensboro Housing Authority's Waiver for the Havens at Willow Oaks, a mixed-finance development in conjunction with Morningside HOPE VI Project: NC19URD022I298.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: October 6, 2006.

Reason Waived: This waiver was requested by the Greensboro Housing Authority (GHA), so that Crosland Contractors, an affiliate of Crosland, Inc., may serve as general contractor for development of this project. GHA procured Mid-City Urban, as the Master Developer for the revitalization of Morningside Homes. For this phase, Mid-City selected Crosland, Inc. as the developer for the Havens. GHA submitted an independent cost estimate from Bowen and Associates (Bowen), which totaled $8,886,896. The guaranteed maximum price bid offered by Crosland Contractors was $7,237,195. As Crosland Contractor's cost was below that of the independent cost estimates, HUD's condition was satisfied and the waiver was granted.

Contact: Dominique Blom, Deputy Assistant Secretary for the Office of Public Housing Investments, Office of Public and Indian Housing, 451 Seventh Street, SW., Room 4130, Washington, DC 20410-5000, telephone (202) 401-8812.

• Regulation: 24 CFR 941.606(n)(l)(ii)(B).

Project/Activity: Charlotte Housing Authority's Waiver for Springfield Gardens Dalton Village HOPE VI Project: NC19URD003I196.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: October 6, 2006.

Reason Waived: This waiver was requested by the Charlotte Housing Authority's (CHA), so that Crosland Contractors may serve as the general contractor for construction of Springfield Gardens, an off-site component of the Dalton Village HOPE VI project. Crosland, Inc. is the master developer for the Dalton Village HOPE VI site. Crosland, Inc. is also the component developer for the Springfield Gardens phase of the HOPE VI project. Crosland Contractors, an affiliate of Crosland, Inc., sought to serve as the general contractor for construction of the project. CHA submitted an independent cost estimate prepared by Construction Cost, Inc. for Springfield Gardens, which totaled $9,954,241. CHA also submitted the construction contract between Crosland and Crosland Contractors, which totaled $7,691,195 for construction of Springfield Gardens. As Crosland Contractor's cost was below that of the independent cost estimates, HUD's condition was satisfied and the waiver was granted.

Contact: Dominique Blom, Deputy Assistant Secretary for the Office of Public Housing Investments, Office of Public and Indian Housing, 451 Seventh Street, SW., Room 4130, Washington, DC 20410-5000, telephone (202) 401-8812.

• Regulation: 24 CFR 941.606(n)(l)(ii)(B).

Project/Activity: San Antonio Housing Authority's (SAHA) Alhambra Apartments. Mixed Finance Project Number: TX006-146.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: December 18, 2006.

Reason Waived: The San Antonio Housing Authority (SAHA) procured NRP Group, LLC as the master developer for the Alhambra Apartments site through a competitive Request for Proposal (RFP). NRP, LLC was identified in the response to the RFP as the intended general contractor. NRP Construction did not bid to become the general contractor, as specified by this provision of the mixed-finance regulation, but SAHA provided documentation that the construction costs were reasonable and within HUD's requirements. SAHA submitted with the waiver request a certification by Wiles Associates (Wiles), an independent third-party cost estimator, who reviewed the full plans and the proposed construction costs. In a letter dated September 5, 2006, Wiles certified the costs were reasonable for the market area. HUD reviewed the Rental Term Sheet, the mixed-finance proposal, the project evidentiaries, and related budgets and determined that the construction costs for this project were reasonable and below the independent cost estimates submitted by the SAHA. The Wiles construction cost estimate is $61.73 per square foot, while NRP Construction's total price is $59.57 per square foot. This amount was below the Wiles estimate by $2.16 a square foot. As NRP Construction's cost was below that of the independent cost estimates, HUD's condition was satisfied and the waiver was granted.

Contact: Dominique Blom, Deputy Assistant Secretary for the Office of Public Housing Investments, Office of Public and Indian Housing, 451 Seventh Street, SW., Room 4130, Washington, DC 20410-5000, telephone (202) 401-8812.

• Regulation: 24 CFR 982.505(d).

Project/Activity: Housing Authority of the City of Flagstaff (HACF), Flagstaff, AZ. The HACF requested a waiver regarding exception payment standards so that it could provide a reasonable accommodation to a person with disabilities.

Nature of Requirement: Section 982.505(d) states that a public housing agency may only approve a higher payment standard for a family as a reasonable accommodation if the higher payment standard is within the basic range of 90 to 110 percent of the fair market rent (FMR) for the unit size.

Granted By: Orlando J. Cabrera, Assistant Secretary for Public and Indian Housing.

Date Granted: October 12, 2006.

Reason Waived: The new tenant, who has multiple sensitivities and disabilities, required an unattached single dwelling home on a private lot to accommodate her disabilities. To provide a reasonable accommodation, an exception payment standard that exceeded the basic range of 90 to 110 percent of the fair market rent was approved.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA), Los Angeles, CA. The HACLA requested a waiver regarding exception payment standards so that it could provide a reasonable accommodation to a person with disabilities.

Nature of Requirement: Section 982.505(d) states that a public housing agency may only approve a higher payment standard for a family as a reasonable accommodation if the higher payment standard is within the basic range of 90 to 110 percent of the fair market rent (FMR) for the unit size.

Granted by: Orlando J. Cabrera, Assistant Secretary for Public and Indian Housing.

Date Granted: December 6, 2006.

Reason Waived: The assisted client, who is developmentally disabled and requires a live-in aide, had extreme difficulty locating another unit that met his needs. The client's family searched extensively for another suitable unit to no avail. Without an exception payment standard, the client's rent burden would be over 100 percent of his monthly-adjusted income. To provide a reasonable accommodation, an exception payment standard that exceeded the basic range of 90 to 110 percent of the fair market rent was approved.

Contact: Dr. Alfred Jurison, Director, Housing Voucher Management and Operations Division, Office of Public Housing and Voucher Programs, Office of Public and Indian Housing, Department of Housing and Urban Development, 451 Seventh Street, SW., Room 4210, Washington, DC 20410-5000, telephone, (202) 708-0477.

• Regulation: 24 CFR 982.207(b)(3).

Project/Activity: Berkeley Housing Authority (BHA), Berkeley, CA. The BHA requested a waiver of a selection preference regulation in order to select Housing Opportunities for Persons with AIDS (HOPWA)-eligible families to occupy 10 of the units receiving project-based voucher assistance at the 97-unit Oxford Plaza project.

Nature of Requirement: Section 982.207(b)(3) which governs tenant selection under the project-based voucher program, states that a housing agency may adopt a preference for admission of families that include a person with disabilities, but may not adopt a preference for persons with a specific disability.

Granted By: Orlando J. Cabrera, Assistant Secretary for Public and Indian Housing.

Date Granted: December 21, 2006.

Reason Waived: Since by law persons with HIV/AIDS only may occupy units developed with HOPWA funds, a public housing agency may only authorize occupancy of such units that also receive project-based voucher assistance by persons with HIV/AIDS. Therefore, in selecting families to refer to the owner for occupancy of these units, the BHA will have to pass over persons on its waiting list until it reaches a person with HIV/AIDS who is interested in moving into one of these units at the Oxford Plaza project.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.55(b).

Project/Activity: Housing Authority of Americus (HAA), Americus, GA. The HAA requested a waiver of this regulation so that it could attach PBV to units at Verandah Apartments.

Nature of Requirement: Section 983.55(b) states that the appropriate subsidy layering review be completed prior to the execution of an agreement to enter into a housing assistance payments contract (AHAP).

Granted By: Orlando Cabrera, Assistant Secretary for Public and Indian Housing.

Date Granted: November 3, 2006.

Reason Waived: This regulation was waived since the HAA thought it had met the regulatory requirement for a subsidy layering review since the Georgia Department of Community Affairs completed one for this project in connection with Home funding and tax credit funding. The HAA subsequently submitted this project to HUD Headquarters for the appropriate subsidy layering review on April 4, 2006.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulations: 24 CFR part 5 and 24 CFR Chapter IX.

Project/Activity: The PHAs identified in Table 1, are all located within a presidentially declared disaster area as a result of damages caused by Hurricanes Katrina and/or Rita or Hurricane Wilma, and each PHA notified HUD of the need for one or more regulatory waivers made available to PHAs in Hurricanes Katrina, Rita and Wilma disaster areas by three Federal Register notices. The first notice is Regulatory and Administrative Waivers Granted for Public and Indian Housing Programs to Assist with Recovery and Relief in Hurricane Katrina Disaster Areas, signed September 27, 2005, and published in the Federal Register on October 3, 2005 (70 FR 57716), the second notice is Regulatory and Administrative Waivers Granted for Public and Indian Housing Programs to Assist with Recovery and Relief in Hurricane Rita Disaster Areas; and Additional Administrative Relief for Hurricane Katrina, signed October 25, 2005, and published in the Federal Register on November 1, 2005 (70 FR 66222), and the third notice is Regulatory and Administrative Waivers Granted for Public and Indian Housing Programs To Assist With Recovery and Relief in Hurricane Wilma Disaster Areas, signed on March 7, 2006, and published in the Federal Register on March 13, 2006 (71 FR 12988):

Nature of Requirements: The three Federal Register notices provided for waiver of the following regulations, in 24 CFR part 5 and 24 CFR Chapter IX for those PHAs in the disaster areas that notified HUD through a special waiver request process designed to expedite both the submission of regulatory requests to HUD and HUD's response to the request.

1. 24 CFR 5.216(g)(5) (Disclosure and Verification of Social Security and Employer Identification Numbers);

2. 24 CFR 5.512(c) (Verification of Eligible Immigration Status; Secondary Verification);

3. 24 CFR 5.801(c) and 5.801(d) (Uniform Financial Reporting Standards (UFRS));

4. 24 CFR 902 (Public Housing Assessment System (PHAS));

5. 24 CFR 903.5 (Annual Plan Submission Deadline);

6. 24 CFR 905.10(i) (Capital Fund Formula; Limitation of Replacement Housing Funds to New Development);

7. 24 CFR 941.306 (Maximum Project);

8. 24 CFR 965.302 (Requirement for Energy Audits);

9. 24 CFR 982.54 (Administrative Plan);

10. 24 CFR 982.206 (Waiting List; Opening and Public Notice);

11. 24 CFR 982.401(d) (Housing Quality Standards; Space Requirements);

12. 24 CFR 982.503(b) (Waiver of payment standard; Establishing Payment Standard; Amounts);

13. 24 CFR 984.303 (Contract of Participation; Family Self-Sufficiency (FSS) Program; Extension of Contract) and 24 CFR 984.105 (Minimum Payment Size);

14. 24 CFR part 985 (Section 8 Management Assessment Program (SEMAP)); and

15. 24 CFR 990.145 (Dwelling Units with Approved Vacancies).

16. 24 CFR 1000.156 and 1000.158 (IHBG Moderate Design Requirements for Housing Development).

17. 24 CFR 1000.214 (Indian Housing Plan (IHP) Submission Deadline).

18. 24 CFR 1003.400(c) and Section I.C. of FY 2005 Indian Community Development Block Grants (ICDBG) Program Notice of Funding Availability (NOFA) (Grant Ceilings for ICDBG Imminent Threat Applications).

19. 24 CFR 1003.401 and Section I.C. of FY 2005 ICDBG NOFA (Application Requirements for ICDBG Imminent Threat Funds).

20. 24 CFR 1003.604 (ICDBG Citizen Participation Requirements).

Both Federal Register notices described the regulatory requirement in detail and the period of suspension or alternative compliance date.

Granted By: Roy A. Bernardi, Deputy Secretary, granted on the October 3, 2005 notice and the November 1, 2005 notice, both in the Federal Register. The March 13, 2006 notice was granted by Orlando J. Cabrera, Assistant Secretary, Public and Indian Housing, published in the Federal Register.

Date Granted: Please refer to Table 1. Table 1 identifies public housing agencies (PHAs) that have requested and were granted the regulatory waivers made available through the three Federal Register notices. The table identity's by number (as listed in the Federal Register notices) the regulatory waivers granted to each housing entity and identifies whether the housing entity was located in a Hurricane Katrina, Hurricane Rita or Hurricane Wilma disaster area.

Reason Waived: The regulations waived in the October 3, 2005, and the November 1, 2005, and the March 13, 2006, Federal Register notices were waived to facilitate the delivery of safe and decent housing under HUD's Public Housing programs to families and individuals that were displaced from their housing as a result of the hurricanes.

Contacts: Reference the items numbers with the items identified in the aforementioned “Nature of Requirements” section for the following contacts:

• Requirements 1, 2 and 8—Nicole Faison, Director, Public Housing Programs, Office of Public Housing and Voucher Programs, Office of Public and Indian Housing, Department of Housing and Urban Development, 451 Seventh Street, SW., Room 4222, Washington, DC 20410-5000, telephone (202) 708-0744;

• Requirements 3, 4 and 15—Wanda F. Funk, Senior Advisor, Real Estate Assessment Center, Office of Public and Indian Housing, Department of Housing and Urban Development, 550 12th Street, SW., Suite 100, Washington, DC 20410-5000, telephone (202) 475-8736;

• Requirement 5—Merrie Nichols-Dixon, Director, Compliance and Coordination Division, Office of Field Operations, Office of Public and Indian Housing, Department of Housing and Urban Development, 451 Seventh Street, SW., Room 4112, Washington, DC 20410-5000, telephone (202) 708-4016.

• Requirements 6 and 7—Jeffery Riddel, Director, Capital Fund Division, Public Housing Investments, Office of Public and Indian Housing, Department of Housing and Urban Development, 451 Seventh Street, SW., Room 4146, Washington, DC 20410-5000, telephone (202) 401-8812;

• Requirements 9-14—Alfred C. Jurison, Director, Housing Voucher Management and Operations Division, Office of Public Housing and Voucher Programs, Office of Public and Indian Housing, Department of Housing and Urban Development, 451 Seventh Street, SW., Room 4210, Washington, DC 20410-5000, telephone (202) 708-0477;

• Requirements 16-20—Deborah M. Lalancette, Director, Office of Grants Management, Office of Native American Programs, Office of Public and Indian Housing, Department of Housing and Urban Development, 1670 Broadway, Denver, CO 80202, telephone (303) 675-1600.

Table 1
Housing Authority code | Housing Authority name and hurricane disaster area, (K), (R) and (W) indicates whether the Housing Authority was located in the hurricane Katrina, Rita or Wilma disaster area | Regulatory waivers granted, by item No. | Date notification received
AL169 | Prichard Housing Authority (K) | 14 | 12/28/06
FL011 | Lakeland Housing Authority (W) | 12 | 11/30/06
FL041 | Housing Authority of the City of Fort Pierce (W) | 6 & 7 | 11/17/06
FL055 | Arcadia Housing Authority (W) | 1, 5 & 15 | 11/20/06
FL060 | Punta Gorda Housing Authority (W) | 4, 13 & 14 | 11/07/06
FL080 | Palm Beach County Housing Authority (W) | 1, 4, 8 & 14 | 12/11/06
FL141 | Collier County Housing Authority (W) | 4, 8, 13 & 14 | 12/01/06

[FR Doc. E7-5959 Filed 3-30-07; 8:45 am]

BILLING CODE 4210-67-P